DEPARTMENT OF ENERGY

Federal Energy Regulatory Commission

Combined Notice of Filings #1

Take notice that the Commission received the following exempt wholesale generator filings:

Docket Numbers: EG26-74-000.

Applicants: Bob Creek Wind, LLC.

Description: Bob Creek Wind, LLC submits Notice of Self-Certification of Exempt Wholesale Generator Status.

Filed Date: 11/25/25.

Accession Number: 20251125-5134.

Comment Date: 5 p.m. ET 12/16/25.

Docket Numbers: EG26-75-000.

Applicants: Selenite Springs Solar, LLC.

Description: Selenite Springs Solar, LLC submits Notice of Self-Certification of Exempt Wholesale Generator Status.

Filed Date: 11/25/25.

Accession Number: 20251125-5138.

Comment Date: 5 p.m. ET 12/16/25.

Docket Numbers: EG26-76-000.

Applicants: Cattle Drive Solar, LLC.

Description: Cattle Drive Solar, LLC submits Notice of Self-Certification of Exempt Wholesale Generator Status.

Filed Date: 11/25/25.

Accession Number: 20251125-5157.

Comment Date: 5 p.m. ET 12/16/25.

Docket Numbers: EG26-77-000.

Applicants: King Mountain Energy Storage, LLC.

Description: King Mountain Energy Storage, LLC submits Notice of Self-Certification of Exempt Wholesale Generator Status.

Filed Date: 11/25/25.

Accession Number: 20251125-5162.

Comment Date: 5 p.m. ET 12/16/25.

Docket Numbers: EG26-78-000.

Applicants: Erath County Solar, LLC.

Description: Erath County Solar, LLC submits Notice of Self-Certification of Exempt Wholesale Generator Status.

Filed Date: 11/25/25.

Accession Number: 20251125-5168.

Comment Date: 5 p.m. ET 12/16/25.

Docket Numbers: EG26-79-000.

Applicants: Hackberry Creek Solar, LLC.

Description: Hackberry Creek Solar, LLC submits Notice of Self-Certification of Exempt Wholesale Generator Status.

Filed Date: 11/25/25.

Accession Number: 20251125-5176.

Comment Date: 5 p.m. ET 12/16/25.

Docket Numbers: EG26-80-000.

Applicants: ZSS Power, LLC.

Description: ZSS Power, LLC submits Notice of Self-Certification of Exempt Wholesale Generator Status.

Filed Date: 11/25/25.

Accession Number: 20251125-5235.

Comment Date: 5 p.m. ET 12/16/25.

Docket Numbers: EG26-81-000.

Applicants: Flatland Solar Energy, LLC.

Description: Flatland Solar Energy, LLC submits Notice of Self-Certification of Exempt Wholesale Generator Status.

Filed Date: 11/25/25.

Accession Number: 20251125-5239.

Comment Date: 5 p.m. ET 12/16/25.

Docket Numbers: EG26-82-000.

Applicants: North Johnson Energy Center, LLC.

Description: North Johnson Energy Center, LLC submits Notice of Self-Certification of Exempt Wholesale Generator Status.

Filed Date: 11/25/25.

Accession Number: 20251125-5245.

Comment Date: 5 p.m. ET 12/16/25.

Docket Numbers: EG26-83-000.

Applicants: Zeta Solar, LLC.

Description: Zeta Solar, LLC submits Notice of Self-Certification of Exempt Wholesale Generator Status.

Filed Date: 11/25/25.

Accession Number: 20251125-5269.

Comment Date: 5 p.m. ET 12/16/25.

Take notice that the Commission received the following electric rate filings:

Docket Numbers: ER24-2030-002.

Applicants: Public Service Company of Colorado.

Description: Compliance filing: 2025-11-24 Compliance Filing—Response to Nov 7 Letter Order to be effective 1/6/2026.

Filed Date: 11/24/25.

Accession Number: 20251124-5428.

Comment Date: 5 p.m. ET 12/15/25.

Docket Numbers: ER26-447-001.

Applicants: Public Service Company of Colorado.

Description: Tariff Amendment: 2025-11-25—PSC—BEPC—Tariff Mngmt and Tagging Srvcs Agrmt—891—0.1.0 to be effective 12/1/2025.

Filed Date: 11/25/25.

Accession Number: 20251125-5224.

Comment Date: 5 p.m. ET 12/16/25.

Docket Numbers: ER26-597-000.

Applicants: NorthWestern Corporation.

Description: § 205(d) Rate Filing: Cancellation of SA 1013 Firm PTP with PSE to be effective 1/1/2026.

Filed Date: 11/25/25.

Accession Number: 20251125-5156.

Comment Date: 5 p.m. ET 12/16/25.

Docket Numbers: ER26-598-000.

Applicants: Appalachian Power Company.

Description: § 205(d) Rate Filing: APCo-Musser Power Supply Agreement Extension to be effective 3/1/2026.

Filed Date: 11/25/25.

Accession Number: 20251125-5160.

Comment Date: 5 p.m. ET 12/16/25.

Docket Numbers: ER26-599-000.

Applicants: Southwest Power Pool, Inc.

Description: § 205(d) Rate Filing: Revisions to Enhance the Integrated Transmission Planning Assessment to be effective 1/26/2026.

Filed Date: 11/25/25.

Accession Number: 20251125-5169.

Comment Date: 5 p.m. ET 12/16/25.

Docket Numbers: ER26-600-000.

Applicants: New York Independent System Operator, Inc.

Description: § 205(d) Rate Filing: NYISO 205: Revisions to Pro Forma NTO Operating Agreement to be effective 1/25/2026.

Filed Date: 11/25/25.

Accession Number: 20251125-5191.

Comment Date: 5 p.m. ET 12/16/25.

Docket Numbers: ER26-601-000.

Applicants: Tri-State Generation and Transmission Association, Inc.

Description: § 205(d) Rate Filing: Amendment to Rate Schedule FERC No. 60 to be effective 1/25/2026.

Filed Date: 11/25/25.

Accession Number: 20251125-5291.

Comment Date: 5 p.m. ET 12/16/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: November 25, 2025.
Carlos D. Clay,
Deputy Secretary.

[FR Doc. 2025-21700 Filed 11-28-25; 8:45 am]

BILLING CODE 6717-01-P